DEPARTMENT OF TRANSPORTATION

Federal Aviation Administration

14 CFR Part 71

[Docket No. FAA-2013-0991; Airspace Docket No. 13-ASO-4]

RIN 2120-AA66

Amendment of VOR Federal Airway V-45, North Carolina

AGENCY: Federal Aviation Administration (FAA), DOT.

ACTION: Final rule; technical amendment.

SUMMARY: This action amends the legal description of VHF Omnidirectional Range (VOR) Federal airway V-45 to update the name of a navigation aid used in the route description. This action is simply to comply with standard formatting for describing routes and does not alter the alignment of the airway.

DATES: Effective Date: 0901 UTC, February 6, 2014. The Director of the Federal Register approves this incorporation by reference action under 1 CFR part 51, subject to the annual revision of FAA Order 7400.9 and publication of conforming amendments.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

The Rule

This action amends Title 14 Code of Federal Regulations (14 CFR) part 71 to update the legal description of a portion of VOR Federal Airway V-45 by replacing the words “Hickory, NC, 049°” with “Pulaski, VA, 147°.” The “Hickory VOR/DME” was renamed the “Barretts Mountain VOR/DME,” but the V-45 description was never updated. This action, instead, replaces the Hickory 049° radial with the Pulaski, VA, VORTAC 147° radial. The intersection of the Greensboro 334° and the Pulaski 147° radials form the exact same point as was previously defined by the Hickory 049° radial. This editorial change does not alter the current alignment of V-45 and the airway track remains correct on aeronautical charts.

Since this action merely involves an editorial change to update the legal description of VOR Federal airway V-45, and does not involve any change in the alignment or operating requirements of the affected route, I find that notice and public procedure under 5 U.S.C. 553(b) are unnecessary.

The FAA has determined that this regulation only involves an established body of technical regulations for which frequent and routine amendments are necessary to keep them operationally current. Therefore, this regulation: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it updates the legal description of an airway in the southeastern United States.

Domestic VOR Federal Airways are published in paragraph 6010(a) of FAA Order 7400.9X, dated August 7, 2013, and effective September 15, 2013, which is incorporated by reference in 14 CFR 71.1. The VOR Federal Airway listed in this document will be published subsequently in the Order.

Environmental Review

The FAA has determined that this action qualifies for categorical exclusion under the National Environmental Policy Act in accordance with FAA Order 1050.1E, Environmental Impacts: Policies and Procedures, paragraph 311a. This airspace action consists of an editorial change only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9X, Airspace Designations and Reporting Points, dated August 7, 2013, and effective September 15, 2013, is amended as follows:

Paragraph 6010(a) Domestic VOR Federal Airways

* * * * *

V-45 [Amended]

From New Bern, NC; Kinston, NC; Raleigh-Durham, NC; INT Raleigh-Durham 275° and Greensboro, NC, 105° radials; Greensboro; INT Greensboro 334° and Pulaski, VA, 147° radials; Pulaski; Bluefield, WV; Charleston, WV; Henderson, WV; Appleton, OH; Waterville, OH; INT Waterville 306° and Jackson, MI, 166° radials; Jackson; Lansing, MI; Saginaw, MI; Alpena, MI; Sault Ste Marie, MI. The airspace within R-5502A and R-5502B is excluded.

* * * * *

Issued in Washington, DC, on November 25, 2013.
Donna Warren,
Acting Manager, Airspace Policy and ATC Procedures Group.

[FR Doc. 2013-28757 Filed 11-29-13; 8:45 am]

BILLING CODE 4910-13-P